DEPARTMENT OF AGRICULTURE

Farm Service Agency

Notice of Funds Availability Inviting Applications for Innovative Ways To Enhance the Economic Viability of Underserved and Limited-Resource Farmers and Ranchers

Announcement Type: Notice of Funds Availability (NOFA) inviting applications from qualified organizations for fiscal year (FY) 2006 funding.

Catalog of Federal Domestic Assistance Number and Program: 10.443 Outreach and Assistance for Socially Disadvantaged Farmers and Ranchers.

SUMMARY: This is a request by the Farm Service Agency (FSA) for proposals for applications for cooperative agreements for FY 2006 to help underserved and limited resource farmers and ranchers become more efficient operators and more economically viable. FY 2005 funding for similar cooperative agreements was $2 million. This notice is being issued prior to passage of a final Department of Agriculture Appropriations Bill to allow applicants sufficient time to prepare and submit proposals and give FSA sufficient time to process applications within FY 2006. An additional Notice of Funding Availability will be published announcing the funding level for FY 2006 once an appropriations act has been enacted. FSA requests proposals from eligible 501(c)(3) nonprofit organizations, land grant institutions, including Tuskegee University, State governments, and Federally-Recognized Indian Tribal Governments, interested in competitively awarded cooperative agreements, to demonstrate innovative and unique approaches to equip underserved and limited-resource farmers and ranchers, including beginning farmers and ranchers, to become more efficient and economically viable.

Proposals should demonstrate innovative and unique ways to help underserved and limited-resource farmers and ranchers improve their economic viability through training, technical assistance, improved farming practices, and more effective marketing approaches.

Underserved and limited-resource farmers and ranchers have different challenges to economic viability due to location, educational assets, age, and landownership. The need to properly address these challenges through education, training, technical assistance and the most creative ways of outreach is critical to the continued existence of the small farm.

People in, or entering into, farming have an array of backgrounds and varied levels of current farm and farm business experience and knowledge. More and more qualified alien immigrants are entering American farming. Often, they are unfamiliar with productive marketing practices, acquisition of land, government assistance, and crop and animal production diversity.

While there are no significant legal obstacles to becoming a farmer in the United States, many barriers to successful farming exist. Among those barriers are (1) increasing capital expenses, (2) progressive managerial requirements, and (3) competition with large-scale producers.

Among limited-resource farmers, a subgroup, the underserved farmer, faces even more barriers to achieving success. In recognition of the dynamic needs of limited-resource and underserved farmers, FSA solicits proposals for innovative approaches to assisting the diverse limited-resource and underserved farm community.

DATES: Applications should be submitted as soon as possible, but no later than 5 p.m. eastern time, December 19, 2005. Applications received after that date will not be accepted and will be returned to the applicant. Applicants must ensure that the service they use to deliver their applications can do so by the deadline. Due to security concerns, packages sent to the Agency by mail have been delayed several days or even weeks.

I. Paperwork Reduction Act

This notice requires a new collection of information only for the Project Proposal. An emergency request for approval of that collection has been approved by OMB through January 31, 2006, under OMB Control Number 0560-0250. FSA intends to publish in the Federal Register a notice requesting public comments on this collection and will request a regular 3-year approval from OMB.

II. Funding Opportunity Description

Background

This solicitation is issued pursuant to 7 U.S.C. 2204b(b)(4) authorizing the Secretary of Agriculture to enter into cooperative agreements to improve the coordination and effectiveness of Federal programs affecting rural areas. The primary objective of this solicitation for cooperative agreements is to assist limited-resource and underserved farmers and ranchers to become economically viable. Thousands of rural residents have chosen or will choose to farm but lack the essential skills and resources to acquire and maintain economic viability. Therefore, FSA will provide financial assistance via cooperative agreements to increase opportunities of the most needy limited resource and underserved farmers and ranchers to achieve economic viability as the result of increased technical assistance and training. FSA is publishing this NOFA prior to passage of a final appropriations act to give applicants time to complete their applications and to provide the Agency sufficient time to select and process the selected applications within the current fiscal year. Cooperative agreements will only be awarded if the project is determined to be economically viable and technically feasible. Also, the cooperative agreements in this solicitation are subject to the availability of adequate funding and may not be awarded if funds are not appropriated to the agency that may be used for this purpose, or budgetary authority for this program is otherwise revoked or not available.

Definitions

The following definitions are applicable to this NOFA:

Agency or FSA: The Department of Agriculture's Farm Service Agency or its successor.

Beginning Farmers and Ranchers: Farmers and ranchers who have not operated a farm or ranch, or have operated a farm or ranch for not more than ten years.

Farm Land: Land used for commercial agriculture crops, poultry and livestock enterprises, or aquaculture.

Federally Recognized Indian Tribal Government: The governing body or a governmental agency of any Indian tribe, band, nation, or other organized group or community (including any Native village as defined in section 3 of the Alaska Native Claims Settlement Act, (85 Stat. 688) certified by the Secretary of the Interior as eligible for the special programs and services provided through the Bureau of Indian Affairs. Their Web site is www.doi.gov/bureau-affairs.html.

Land Grant Institution:

(1) An 1890 institution, including Tuskegee University, or 1862 institution, (as defined in section 2 of the Agricultural Research, Extension, and Education Reform Act of 1998 (7 U.S.C. 7601)), including West Virginia State College.

(2) An Indian tribal community college or an Alaska Native cooperative college.

(3) A Hispanic-serving institution (as defined in section 1404 of the National Agricultural Research, Extension, and Teaching Policy Act of 1977 (7 U.S.C. 3103)).

(4) A 1994 institution (as defined in section 2 of the Agricultural Research, Extension, and Education Reform Act of 1998 (7 U.S.C. 7601).

Limited-resource farmer or rancher: A low-income owner or operator of a family-size farm.

National Office: FSA Headquarters in Washington, DC.

Non-Profit Organization: Any corporation, trust, association, cooperative, or other organization that:

(1) Is operated primarily for scientific, educational, service, charitable, or similar purposes in the public interest;

(2) Is not organized primarily for profit; and

(3) Is an organization that is recognized by the Internal Revenue Service as being exempt from Federal income tax under section 501(3)(c) of the Internal Revenue Code.

Socially disadvantaged farmer or rancher: One of a group whose members have been subjected to racial, ethnic, or gender prejudice because of their identity as members of the group without regard to their individual qualities. For purposes of this program, socially disadvantaged groups are women, African Americans, American Indians, Alaskan Natives, Hispanics, and Asian Americans and Pacific Islanders.

Underserved and Limited-Resource Farmers and Ranchers: Farmers and ranchers who do not have easy access to information and resources due to barriers such as language, cultural and other socio-economic factors, including socially disadvantaged farmers and ranchers, limited-resource farmers and ranchers, and beginning farmers and ranchers.

III. Award Information

Eight to ten cooperative agreements are expected to be awarded; however, no agreements will be awarded if no submitted proposal meets the needs of the agency or the requirements of this notice. FSA anticipates approximately $3 million will be available to fund proposals in FY 2006. Awards are expected to average approximately $300,000. If lesser or no funds are made available to the agency for this purpose, fewer or no agreements may be awarded. Cooperative agreement funds may be used to cover allowable costs incurred by the recipient and approved by the Agency. Allowable costs will be governed by 7 CFR parts 3015, 3016, and 3019 and applicable Office of Management and Budget Circulars.

IV. Eligibility Information

1. Eligible Applicants

Applicants must be non-profit organizations, federally-recognized Indian Tribal Governments, or land grant institutions as defined in the “Definitions” section of this NOFA. Applications without sufficient information to determine their eligibility will not be considered.

2. Cost-Sharing or Matching

There are no provisions for cost-sharing or matching.

V. Application and Submission Information

1. Address to Request Application Package

The forms required for an application as described below and for subsequent reporting by the successful applicant may be obtained from Darlene Smith, Program Analyst, Outreach Staff, telephone (202) 260-6069, facsimile (202) 690-4727, Email: Darlene.Smith@wdc.usda.gov. Application materials can also be downloaded from the FSA Outreach Web site at http://www.fsa.usda.gov/outreach or from the Government grants Web site at www.grants.gov. Click on “Find Grant Opportunities,” then “Search Grant Synopsis.” From the search results, select “Outreach and Assistance Partnership Program” to access forms for this program. All other information described below is to be provided by the applicant.

2. Content and Form of Application

(a) Form SF-424, “Application for Federal Assistance.”

(b) Form SF-424A, “Information—Non-Construction Programs.”

(c) Form SF-424B, “Assurances—Non-Construction Programs.”

(d) Table of Contents—For ease of locating information, each application must contain a detailed Table of Contents immediately following the required Federal forms. The Table of Contents should include page numbers for each component of the application. Pagination should begin immediately following the Table of Contents.

(e) Proposal Summary—A summary of the Project Proposal, not to exceed one page, that includes the title of the project, a description of the project (including goals and tasks to be accomplished), the names of the individuals responsible for conducting and completing the tasks, and the expected time frame for completing all tasks (which should not exceed twelve months).

(f) Eligibility—A detailed discussion, not to exceed two pages, describing how the applicant meets the definition of land grant institution, non-profit organization, or federally recognized Indian tribal government, as outlined in the “Recipient Eligibility Requirements” section of this NOFA. In addition, the applicant must describe all other collaborative organizations that may be involved in the project.

(g) Proposal Narrative—The narrative portion of the project proposal must be in a font such as Times New Roman, 12 pt. or comparable font, and must include the following:

(h) Project Title—The title of the proposed project must be brief, not to exceed 100 characters, yet represent the major thrust of the project.

(i) Information Sheet—A separate one page information sheet that lists each of the evaluation criteria listed in this NOFA under the “Evaluation Criteria and Weights” subsection followed by the page numbers of all relevant material and documentation contained in the proposal which address or support that criteria.

(j) Goals and Objectives of the Project—A clear statement of the ultimate goals and objectives of the project must be presented.

(k) All relevant material and documentation addressing the criteria in section VI(1) of this NOFA.

3. Submission Date

The deadline for receipt of all applications is 5 p.m. Eastern Time, December 19, 2005. The Agency will not consider any applications received after the deadline. Late applications will not be accepted and will be returned to the applicant. Applicants must ensure that the service they use to deliver their applications can do so by the deadline. Due to recent security concerns, packages sent to the Agency by mail have been delayed several days or even weeks.

4. Submission of Applications

An original and two paper copies of the completed and signed application, and one electronic copy (Microsoft Word format preferred) on diskette or compact disc must be submitted in one package at the time of initial submission.

Submit applications and other required materials to Darlene Smith, Program Analyst, Outreach Staff, Farm Service Agency, USDA, STOP 0511, Room 3724-S, 1400 Independence Avenue, SW., Washington, DC 20250-0511.

Receipt of applications will be acknowledged by e-mail whenever possible. Therefore, applicants are encouraged to provide an e-mail address in the application. If an e-mail address is not indicated on an application, receipt will be acknowledged by letter. Incomplete or non-responsive applications will be returned to the applicant and evaluated further. When received by FSA, applications will be assigned an identification number. This number will be communicated to applicants in the acknowledgement of receipt of applications. An application's identification number should be referenced in all correspondence regarding the application. If the applicant does not receive an acknowledgement within 15 days of the submission deadline, the applicant should contact Darlene Smith at (202)260-6069, or electronically at Darlene.Smith@wdc.usda.gov.

5. Intergovernmental Review

Not applicable.

6. Funding Restrictions

The awarding of cooperative agreements is subject to adequate funding and will only be awarded to the extent funds are made available to the agency for this purpose. Cooperative agreement funds cannot be used to:

(a) Support the organization's general operations;

(b) Plan, repair, rehabilitate, acquire, or construct a building or facility (including a processing facility);

(c) Purchase, rent, or install fixed equipment, including mobile and other processing equipment;

(d) Pay for the preparation of the grant application;

(e) Pay expenses not directly related to the funded venture;

(f) Fund political or lobbying activities;

(g) Pay costs incurred prior to receiving a Cooperative Agreement;

(h) Fund any activity prohibited by 7 CFR parts 3015, 3016, 3018 and 3019; or

(i) Fund architectural or engineering design work for a specific physical facility.

VI. Application Review Information

1. Criteria

The proposal will be evaluated using the following criteria and weights. Each criterion must be addressed specifically and individually by category. These criteria should be in narrative form with any specific supporting documentation attached as addenda and directly following the proposal narrative. If other materials, including financial statements, will be used to support any evaluation criteria, they should also be placed directly following the proposal narrative. The applicant must also propose and delineate significant agency participation in the project. Failure to address any one of the criteria will disqualify the application. All proposals must be in compliance with this NOFA and applicable statutes.

(a) Proposer's Commitment and Resources (20 points)—The standard evaluates the degree to which the organization is committed to the project, and the experience, qualifications, competency, and availability of personnel and resources to direct and carry out the project.

(b) Feasibility and Policy Consistency (20 points)—The standard evaluates the degree to which the proposal clearly describes its objectives and evidences a high level of feasibility. This criterion relates to the adequacy and soundness of the proposed approach to the solution of the problem and evaluates the plans of operation, evaluation and dissemination, and timetable.

(c) Detailed description of the anticipated number of underserved and limited resource farmers and ranchers, and beginning farmers and ranchers to be served by this initiative and collaborative partnerships, if any (20 points)—This standard evaluates the degree to which the proposal reflects partnerships and collaborative initiatives with other agencies or organizations to enhance the quality and effectiveness of the program. Additionally, the number of limited resources and underserved farmers and ranchers who would benefit from the services offered, and the socio-economic characteristics of the areas in which they are located will be evaluated.

(d) Socially Disadvantaged Applicants—Outreach (20 points)—This standard evaluates the degree to which the proposal contains efforts to reach persons identified as socially disadvantaged farmers and ranchers. The proposal will be evaluated for its potential for encouraging and assisting socially disadvantaged farmers and ranchers to own and operate farms and ranches and participate in agricultural programs. Elements considered include impact, continuation plans, and expected products and results.

(e) Preparatory Features—Statement of Work (15 points)—This standard evaluates the degree to which the proposal reflects innovative strategies for reaching the population targeted in the proposal and achieving the project objectives. Elements evaluated include originality, practicality, and creativity in developing and testing innovative solutions to existing or anticipated issues or problems of underserved and limited-resource farmers and ranchers. The proposal will be reviewed for its responsiveness to the need to provide underserved and limited-resource farmers and ranchers with information and assistance on various USDA programs, farm management, and other essential information to enhance participation in agricultural programs and conduct successful farming operations.

(f) Overall Quality of the Proposal (5 points)—This standard evaluates the degree to which the proposal complies with this NOFA and is of high quality. Elements considered include adherence to instructions, accuracy, and completeness of forms, clarity and organization of ideas, thoroughness and sufficiency of detail in the budget narrative.

(g) Accuracy of Proposed Budget and Justification (5 points)—This standard evaluates the accuracy of the proposed budget and the accompanying budget justification and should sufficiently provide the reviewer with a detailed description of each budget category that includes categorical subtotals as well as an attached budget justification that clearly defines and explains every proposed budget line item.

2. Review and Selection Process

Prior to technical examination, a preliminary review will be made by FSA Outreach Staff for responsiveness to this solicitation. Proposals that do not fall within the solicitation guidelines or are otherwise ineligible will be eliminated from competition.

All responsive proposals will be reviewed by a panel of career National Office FSA and/or USDA Agency employees chosen to provide maximum expertise and objective judgment in the evaluation of proposals. The panel will review applications using the evaluation criteria stated above for eligibility, completeness, and responsiveness to this NOFA. Incomplete or non-responsive applications will be returned to the applicant and not evaluated further.

Successfully evaluated proposals will be ranked by the FSA Outreach Staff based on merit. Final approval of those proposals will be made by the Administrator of FSA (the Administrator).

When the reviewers have completed their individual evaluations, the panel reviewers, based on the individual reviews, will make recommendations to the Administrator. Prior to award, the Administrator reserves the right to negotiate with an applicant or applicants whose projects are recommended for funding regarding project revisions (e.g., change in scope of work or the Agency's significant involvement), funding level, or period of support. A proposal may be withdrawn at any time before a final funding decision is made.

VII. Award Administration

1. Award Notices

The successful applicant will be notified by FSA when selected by the Administrator. Within the limit of funds available for such purpose, the Administrator shall enter into a cooperative agreement with the successful applicant. The successful applicant will be required to sign an Agency-approved cooperative agreement.

Unsuccessful applicants will be notified within 90 days after the receipt of applications.

2. Access to Panel Review Information

Upon written request from the applicant, scores from the evaluation panel, not including the identity of reviewers, will be sent to the applicant after the review and awards process has been completed.

3. Administrative and National Policy Requirements

In addition to the requirements provided in this notice, other Federal statutes and regulations apply to proposals considered for review and to the cooperative agreements awarded. These include, but are not limited to:

(a) 7 CFR part 15, subpart A—Nondiscrimination in Federally-Assisted Programs of the Department of Agriculture—Effectuation of Title VI of the Civil Rights Act of 1964;

(b) 7 CFR part 3015—Uniform Federal Assistance Regulations;

(c) 7 CFR part 3016—Uniform Administrative Regulations for Grants and Cooperative Agreements and State and Local Governments;

(d) 7 CFR part 3017—Government-wide Debarment and Suspension (Non-procurement) and Government-wide Requirements for Drug-Free Workplace (Grants);

(e) 7 CFR part 3018—New Restrictions on Lobbying;

(f) 7 CFR part 3019—Uniform Administrative Requirements for Grants and Agreements with Institutions of Higher Education, Hospitals, and Other Non-profit Organizations; and

(g) 7 CFR part 3052-Audits of States, Local Governments, and Non-Profit Organizations.

4. Reporting

Cooperators will be required to:

(a) Sign required Federal assistance forms including:

(i) Form AD-1047, Certification Regarding Debarment, Suspension, and Other Responsibility Matters-Primary Covered Transactions;

(ii) Form AD-1048, Certification Regarding Debarment, Suspension, Ineligibility and Voluntary Exclusion-Lower Tier Covered Transactions;

(iii) Form AD-1049, Certification Regarding a Drug-Free Workplace Requirements (Grants); and

(iv) Form RD 400-4, Assurance Agreement (Civil Rights).

(b) Use Standard Form 270, Request for Advance or Reimbursement to request payments.

(c) Submit Form SF-269, Financial Status Report, and list expenditures according to agreed upon budget categories on a semi-annual basis. A semi-annual financial report is due within 45 days after the first 6-month project period and an annual financial report is due within 60 days after the second 6-month project period.

(d) Submit quarterly performance reports that compare accomplishments to the objectives; if established objectives are not met, discuss problems, delays, or other problems that may affect completion of the project; establish objectives for the next reporting period; and discuss compliance with any special conditions on the use of awarded funds.

(e) Maintain a financial management and document retention system that is acceptable to the Agency.

(f) Sign an agency-approved cooperative agreement.

(g) Submit a final project performance report.

VIII. Agency Contact

FOR FURTHER INFORMATION CONTACT: Darlene Smith, Program Analyst, Outreach Staff, Farm Service Agency, USDA, STOP 0511, Room 3724-S, 1400 Independence Avenue, SW., Washington, DC 20250-0511, phone: (202) 260-6069, fax: (202) 690-4727, e-mail: Darlene.Smith@wdc.usda.gov.

IX. Other Information

1. Dun and Bradstreet Data Universal Numbering System (DUNS)

A DUNS number is a unique nine-digit sequence recognized as the universal standard for identifying and keeping track of over 70 million businesses worldwide. The Office of Management and Budget published a notice of final policy issuance in the Federal Register June 27, 2003 (68 FR 38402) that requires a DUNS number in every application (i.e., hard copy and electronic) for a grant or cooperative agreement on or after October 1, 2003. Therefore, potential applicants should verify that they have a DUNS number or take the steps needed to obtain one. For information about how to obtain a DUNS number, go to http://www.grants.gov. Please note that the registration may take up to 14 business days to complete.

2. Required Registration for Electronic Submission of Proposals

The Central Contract Registry (CCR) is a database that serves as the primary Government repository for contractor information required for the conduct of business with the Government. This database will also be used as a central location for maintaining organizational information for organizations seeking and receiving grants from the Government. Such organizations must register in the CCR prior to the submission of applications. A DUNS number is needed for CCR registration. For information about how to register in the CCR, visit “Get Started” at the Web site, http://www.grants.gov. Allow a minimum of 5 days to complete the CCR registration.

Signed in Washington, DC, on November 9, 2005.
Thomas B. Hofeller,
Acting Administrator, Farm Service Agency.

This Cooperative Agreement (Agreement) dated____, between____(Cooperator), and the United States of America, acting through the Farm Service Agency (FSA) of the Department of Agriculture (Grantor), for $____ in cooperative agreement funds under the program, delineates the agreement of the parties.

NOW, THEREFORE, in consideration for the mutual agreements and promises in this cooperative agreement, the parties hereto agree as follows:

The parties agree that:

1. All the terms and provisions of the NOFA published____, 2005 (insert date) and application submitted by the Cooperator in connection therewith, including any attachments or amendments, are incorporated and included as part of this Cooperative Agreement. Any changes to these documents or this Cooperative Agreement must be approved in writing by FSA.

2. As a condition of the Agreement, the Cooperator certifies that it is in compliance with and will comply in the course of the Agreement with all applicable laws, regulations, Executive Orders, and other generally applicable requirements, including those contained in 7 CFR 3015.205(b), which are incorporated into this agreement by reference, and such other statutory provisions as are specifically contained herein. The Cooperator will comply with 7 CFR part 15, subpart A, Title VI of the Civil Rights Act of 1964, section 504 of the Rehabilitation Act of 1973, and Executive Order 12250.

3. The provisions of 7 CFR part 3015, “Uniform Federal Assistance Regulations”, 7 CFR part 3019, “Uniform Administrative Requirements for Grants and Agreements with Institutions of Higher Education, Hospitals, and Other Nonprofit Organizations,” 7 CFR part 3017 “Governmentwide Requirements for a Drug-Free Workplace (Grants),” 7 CFR part 3018 “New Restrictions on Lobbying,” and 7 CFR part 3052 “Audits of States, Local Governments, and Non-Profit Organizations”, as applicable, are incorporated herein and made a part hereof by reference.

4. The following certifications and forms are required and will become a part of the Agreement. These certifications, which are included as part of the Attachment 1, must be signed. The SF 424 and SF 424A may be revised and re-submitted to the Agency upon execution of this agreement if necessary.

SF 424, “Application for Federal Assistance”

SF 424A, “Budget Information—Non-Construction Program”

SF 424B “Assurance—Non-Construction Program”

SF LLL, “Disclosure of Lobbying Activities” “Certification Regarding Lobbying”

Form AD-1049, “Certification Regarding Drug-Free Workplace Requirements (Grants) Alternative 1—For Grantees Other Than Individuals”

Form AD-1047 “Certification Regarding Debarment, Suspension, and Other Responsibility Matter-Primary Covered Transactions”

5. Disbursements by FSA to the Cooperator will be made as soon as possible upon receipt and approval of a SF 270. Disbursement requests will be sent to:

(Name)

(Address of FSA)

6. The FSA Project Coordinator is____, (name). All notices to FSA will be sent to the FSA Project Coordinator at the following address____, (address). Notices to Cooperator will be sent to the following: (insert name and address)

FURTHER, the Cooperator agrees that it will:

1. Not use cooperative agreement funds to plan, repair, rehabilitate, acquire, or construct a building or facility (including a processing facility); or to purchase, rent, or install fixed equipment.

2. Use funds only for the purpose and activities specified in the proposal approved by FSA including the approved budget and Work Plan. Any uses not provided for in the approved budget and Work Plan must be approved in writing by FSA in advance of obligation by FSA.

3. Keep an account of the expenditures of the funds provided by FSA and submit a Standard Form 269, “Financial Status Report” and list expenditures according to agreed upon budget categories on a semi-annual basis. Reports are due by April 30 and October 30 after the Cooperative Agreement is awarded.

4. Immediately refund to FSA, at the end of the Cooperative Agreement, any balance of unobligated funds received from the FSA.

5. Provide periodic reports as required by FSA. A financial status report and a project performance report will be required on a semi-annual basis. The financial status report must show how FSA provided funds have been used to date and project the funds needed and their purposes for the next six months. A final report may serve as the last semi-annual report. Cooperators shall constantly monitor performance to ensure that time schedules are being met and projected goals by time periods are being accomplished. The project performance reports shall include the following:

(a) A comparison of actual accomplishments to the objectives for that period.

(b) Reasons why established objectives were not met, if applicable.

(c) Reasons for any problems, delays, or adverse conditions which will affect attainment of overall program objectives, prevent meeting time schedules or objectives, or preclude the attainment of particular objectives during established time periods. This disclosure shall be accomplished by a statement of the action taken or planned to resolve the situation.

(d) Objectives and timetables established for the next reporting period.

(e) The final report will also address the following:

(i) What have been the most challenging or unexpected aspects of this program?

(ii) What advice you would give to other organizations planning a similar program? This advice should include strengths and limitations of the program. If you had the opportunity, what would you have done differently?

(iii) If an innovative approach was used successfully, the cooperator should describe their program in detail so that other organizations might consider replication in their programs.

Provide Financial Management Systems that will include:

(a) Records that identify adequately the source and application of funds for activities supported under this cooperative agreement. Those records shall contain information pertaining to grant and cooperative agreement awards and authorizations, obligations, un-obligated balances, assets, liabilities, outlays, and income.

(b) Effective control over and accountability for all funds, property, and other assets. Cooperator shall adequately safeguard all such assets and shall ensure that they are used solely for authorized purposes.

(c) Accounting records supported by source documentation.

7. To retain financial records, supporting documents, statistical records, and all other records pertinent to the Cooperative Agreement for a period of at least 3 years after the closeout, except that the records shall be retained beyond the 3-year period if audit findings have not been resolved or if requested by FSA. Microfilm, photocopies or similar methods may be substituted in lieu of original records. FSA and the Comptroller General of the United States, or any of their duly authorized representatives, shall have access to any books, documents, papers, and records of the Cooperator that are pertinent to this Cooperative Agreement for the purpose of making audits, examinations, excerpts, and transcripts.

8. Not encumber, transfer, or dispose of the equipment or any part thereof, acquired wholly or in part with FSA funds provided under this Cooperative Agreement without the written consent of FSA.

9. Not duplicate other program purposes for which monies have been received, are committed, or are applied to from other sources, public or private.

FSA agrees to make available to Cooperator for the purpose of this Agreement funds in an amount not to exceed the cooperative agreement funds. The funds will be reimbursed or advanced based on submission of Standard Form 270.

IN WITNESS WHEREOF, Cooperator has this day authorized and caused this Agreement to be executed by

Attest

By

(Title)

(Cooperator)

United States of America, Farm Service Agency

By

(Title)

(Grantor)

[FR Doc. 05-22821 Filed 11-17-05; 8:45 am]

BILLING CODE 3410-05-M